DEPARTMENT OF COMMERCE

National Oceanic and Atmospheric Administration

[RTID 0648-XD518]

Western Pacific Fishery Management Council; Public Meetings; Correction

AGENCY: National Marine Fisheries Service (NMFS), National Oceanic and Atmospheric Administration (NOAA), Commerce.

ACTION: Notice of time changes of public meetings and notice of a partially closed meeting.

SUMMARY: The Western Pacific Fishery Management Council (Council) will hold its Executive and Budget Standing Committee and its 197th Council meeting to take actions on fishery management issues in the Western Pacific Region. A portion of the 197th Council meeting will be closed to the public.

DATES: The meetings will be held between December 11 and December 13, 2023. For specific times and agendas, see SUPPLEMENTARY INFORMATION.

ADDRESSES: The meetings will be held by web conference via WebEx. Specific information on joining the meeting, connecting to the web conference and providing oral public comments will be posted on the Council website at www.wpcouncil.org. For assistance with the web conference connection, contact the Council office at (808) 522-8220.

The following venue will be the host site for the Executive and Budget Standing Committee web conference:

• Council office, 1164 Bishop Street, Suite 1400, Honolulu, HI 96813.

The following venues will be the host sites for the 197th Council meeting web conference:

• Council Conference Room, 1164 Bishop Street, Suite 1400, Honolulu, HI;

• Cliff Pointe, 304 W O'Brien Drive, Hagatna, Guam;

• BRI Building, Suite 205, Kopa Di Oru St., Garapan, Saipan, Commonwealth of the Northern Mariana Islands (CNMI); and

• Tedi of Samoa Building, Suite 208B, Fagatogo Village, American Samoa.

Council address: Western Pacific Fishery Management Council, 1164 Bishop Street, Suite 1400, Honolulu, HI 96813.

FOR FURTHER INFORMATION CONTACT: Kitty M. Simonds, Executive Director, Western Pacific Fishery Management Council; phone: (808) 522-8220.

SUPPLEMENTARY INFORMATION: The original notice published in the Federal Register on November 13, 2023 (88 FR 77560). This notice changes the time for the Executive and Budget Standing Committee meeting, changes the start time of the 197th Council Meeting, and announces a closed session for the 197th Council Meeting. All other information previously published remains unchanged.

The Executive and Budget Standing Committee meeting will be held between 12 p.m. and 2:30 p.m. Hawaii Standard Time (HST) on December 11, 2023. The 197th Council Meeting will be held between 10 a.m. and 5 p.m. HST on December 12, 2023, and between 11 a.m. and 5 p.m. HST on December 13, 2023. The portion of the 197th Council Meeting from 10 a.m. and 11 a.m. HST on December 12, 2023, will be closed to the public in accordance with Section 302(i)(3) of the Magnuson-Stevens Fishery Conservation and Management Act (MSA) for a briefing on litigation by counsel. Public Comment on Non-Agenda Items will be held between 4:30 p.m. and 5 p.m. HST on December 12, 2023.

Agenda items noted as “Final Action” refer to actions that may result in Council transmittal of a proposed fishery management plan, proposed plan amendment, or proposed regulations to the U.S. Secretary of Commerce, under Sections 304 or 305 of the MSA. In addition to the agenda items listed here, the Council and its advisory bodies will hear recommendations from Council advisors. An opportunity to submit public comment will be provided throughout the agendas. The order in which agenda items are addressed may change and will be announced in advance at the Council meeting. The meetings will run as late as necessary to complete scheduled business.

Background documents for the 197th Council meeting will be available at www.wpcouncil.org. Written public comments on final action items at the 197th Council meeting should be received at the Council office by 5 p.m. HST, Thursday, December 8, 2023, and should be sent to Kitty M. Simonds, Executive Director; Western Pacific Fishery Management Council, 1164 Bishop Street, Suite 1400, Honolulu, HI 96813, phone: (808) 522-8220 or fax: (808) 522-8226; or email: info@wpcouncil.org. Written public comments on all other agenda items may be submitted for the record by email throughout the duration of the meeting. Instructions for providing oral public comments during the meeting will be posted on the Council website. This meeting will be recorded (audio only) for the purposes of generating the minutes of the meeting.

Revised Schedule and Agenda for the Executive and Budget Standing Committee Meeting

Monday, December 11, 2023, 12 p.m. to 2:30 p.m., HST

1. Introductions and Approval of Agenda

2. Financial Reports

3. Administrative Reports

4. Inflation Reduction Act

5. Council Family Changes

6. Meetings and Workshops

7. Council Coordination Committee Meeting Outcomes

8. Election of Officers

9. Other Business

10. Public Comment

11. Discussion and Recommendations

Revised Schedule and Agenda for the 197th Council Meeting

Tuesday, December 12, 2023, 10 a.m. to 11 a.m., HST

Closed Session on Litigation Related Matters (pursuant to MSA § 302(i)(3))

Tuesday, December 12, 2023, 11 a.m. to 5 p.m., HST

1. Welcome and Introductions

2. Oath of Office—New Council Member

3. Approval of the 197th CM Agenda

4. Approval of the 196th CM Meeting Minutes

5. Executive Director's Report

6. Federal Agency Reports

A. National Marine Fisheries Service

B. NOAA Office of General Counsel Pacific Islands Section

C. Ethics Training

D. Enforcement Reports

E. U.S. State Department

F. U.S. Fish and Wildlife Service

G. Public Comment

H. Council Discussion and Action

7. Island Agency Reports

A. American Samoa Department of Marine and Wildlife Resources

B. CNMI Department of Lands and Natural Resources

C. Guam Department of Agriculture

D. Hawaii Department of Land and Natural Resources

E. Public Comment

F. Council Discussion and Action

8. Action Items

A. Fishing Regulations for the Proposed Pacific Remote Island National Marine Sanctuary (Final Action)

B. Advisory Group Report and Recommendations

B.1 FIAC

B.2 AP

B.3 SSC

C. Public Comment

D. Council Discussion and Action

Tuesday, December 12, 2023, 4:30 p.m. to 5 p.m., HST

Public Comment on Non-Agenda Items

Wednesday, December 13, 2023, 11 a.m. to 5 p.m., HST

9. Action Items Continued

A. Discontinuing the Rebuilding Plan and Annual Catch Limit Specifications for the American Samoa Bottomfish Fishery for 2024-2026 (Final Action)

B. Hawaii FEP Uku Essential Fish Habitat Revision Amendment (Final Action)

C. Guam Bottomfish Stock Assessment WPSAR Terms of Reference

D. Multi-year U.S. Territorial Bigeye Tuna Catch Limit and Allocation Specification (Final Action)

E. Advisory Group Report and Recommendations

E.1 FIAC

E.2 AP

E.3 SSC

F. Public Comment

G. Council Discussion and Action

10. Program Items

A. Council IRA Application Priorities and Development

B. Pelagic and International Fisheries

B.1 Council WCPO Longline Management Workshops

B.2 Outcomes of 20th Regular Session of the WCPFC

C. Advisory Group Report and Recommendations

C.1 FIAC

C.2 AP

C.3 SSC

D. Public Comment

E. Council Discussion and Action

11. Administrative Matters

A. Financial Reports

B. Administrative Reports

C. Council Family Changes

D. Meetings and Workshops

E. Report on the CCC Meeting Outcomes

F. Executive and Budget Standing Committee Report

G. Public Comment

H. Council Discussion and Action

12. Other Business

13. Election of Officers

Non-emergency issues not contained in this agenda may come before the Council for discussion and formal Council action during its 197th meeting. However, Council action on regulatory issues will be restricted to those issues specifically listed in this document and any regulatory issue arising after publication of this document that requires emergency action under section 305(c) of the Magnuson-Stevens Act, provided the public has been notified of the Council's intent to take action to address the emergency.

Special Accommodations

These meetings are accessible to people with disabilities. Requests for sign language interpretation or other auxiliary aids should be directed to Kitty M. Simonds, (808) 522-8220 (voice) or (808) 522-8226 (fax), at least 5 days prior to the meeting date.

Authority: 16 U.S.C. 1801 et seq.

Dated: November 28, 2023.
Rey Israel Marquez,
Acting Deputy Director, Office of Sustainable Fisheries, National Marine Fisheries Service.

[FR Doc. 2023-26484 Filed 11-30-23; 8:45 am]

BILLING CODE 3510-22-P